DEPARTMENT OF HEALTH AND HUMAN SERVICES

Centers for Disease Control and Prevention

[60Day-17-17BAW; Docket No. CDC-2017-0083]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the Paul Coverdell National Acute Stroke Program (2015-2020) Evaluation.

DATES: CDC must receive written comments on or before December 11, 2017.

ADDRESSES: You may submit comments, identified by Docket No. CDC-2017-0083 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Paul Coverdell National Acute Stroke Program (2015-2020) Evaluation—New—National Center for Chronic Disease Prevention and Health Promotion (NCCDPHP), Centers for Disease Control and Prevention (CDC).

Background and Brief Description

The Centers for Disease Control and Prevention (CDC), Division for Heart Disease and Stroke Prevention (DHDSP), requests a three-year OMB approval for a new collection.

The CDC is the primary Federal agency for protecting health and promoting quality of life through the prevention and control of disease, injury, and disability. CDC is committed to programs that reduce the health and economic consequences of the leading causes of death and disability, thereby ensuring a long, productive, healthy life for all people.

Stroke remains a leading cause of serious, long-term disability and is the fifth leading cause of death in the United States after heart disease, cancer, chronic lower respiratory diseases, and accidents. Estimates indicate that approximately 795,000 people suffer a first-ever or recurrent stroke each year with more than 130,000 deaths annually. Although there have been significant advances in preventing and treating stroke, the rising prevalence of heart disease, diabetes, and obesity has increased the relative risk for stroke, especially in African American populations. Moreover, stroke's lifetime direct cost of health care and indirect cost of lost productivity is staggering and imposes a substantial societal economic burden. Coverdell-funded state programs are in the forefront of developing and implementing system-change efforts to improve emergency response systems, enhance the quality of care for stroke, and improve transitions across stroke systems of care, including pre-event; transitions from EMS to acute care in hospitals; and transitions from hospitals to home, rehabilitation, stroke specialist care, and primary care providers.

When Congress directed the Centers for Disease Control and Prevention (CDC) to establish the Paul Coverdell National Acute Stroke Program (PCNASP) in 2001, CDC intended to monitor trends in stroke and stroke care, with the ultimate mission of improving the quality of care for stroke patients in the United States. Since 2015, CDC has funded and provided technical assistance to nine state health departments to develop comprehensive stroke systems of care. A comprehensive system of care improves quality of care by creating seamless transitions for individuals experiencing stroke. In such a system, pre-hospital providers, in-hospital providers, and early post-hospital providers coordinate patient hand-offs and ensure continuity of care. CDC contracted with RTI International to conduct a national evaluation of the state health departments awarded grants in 2015 to assess their implementation in their state-based contexts and progress toward short- and intermediate-term outcomes.

CDC and RTI International propose to collect information from all nine funded PCNASP grantees to gain insight into the effectiveness of implementation of their quality improvement strategies, development (and use) of a data integrated management system, and partner collaboration in building comprehensive state-wide stroke systems of care. The information collection will focus on describing PCNASP specific contributions to effective state-based stroke systems of care and the costs associated with this work.

Two components of the information collection include: (1) Program implementation cost data collection from program partners using a cost and resource utilization tool; and (2) telephone interviews with key program stakeholders, such as the PCNASP principal investigator, program manager, quality improvement specialist, data analyst/program evaluator, and partner support staff. Cost data collection will focus on a stratified sample of partners' cumulative spending to support PCNASP activities, spending by reporting period, and spending associated with specific PCNASP strategies related to building comprehensive state-wide stroke systems of care. Interview questions will target how each grantee implemented its strategies, challenges encountered and how they were overcome, factors that facilitated implementation, lessons learned along the way, and observed outcomes and improvements.

The information to be collected does not currently exist for large scale, statewide programs that employ multiple combinations of strategies led by state public health departments to build comprehensive stroke systems of care. The insights to be gained from this data collection will be critical to improving immediate efforts and achieving the goals of spreading and replicating state-level strategies that are proven programmatically and are cost-effective in contributing to a higher quality of care for stroke patients.

Estimated Annualized Burden Hours
Type of respondent | Form name | Number of respondents | Number of responses per respondent | Average burden per response (in hours) | Total burden (in hours)
Partner Program Manager | Cost Resource and Utilization Tool | 205 | 2 | 2 | 820
Principal Investigator | Telephonic Interviews | 9 | 1 | 1 | 9
Grantee Program Manager | Telephonic Interviews | 9 | 1 | 1 | 9
Quality Improvement Specialist | Telephonic Interviews | 9 | 1 | 1 | 9
Data Analyst/Program Evaluator | Telephonic Interviews | 9 | 1 | 1 | 9
Partner Support Staff | Telephonic Interviews | 18 | 1 | 1 | 18
Total |  |  |  |  | 874

Leroy A. Richardson,
Chief, Information Collection Review Office, Office of Scientific Integrity, Office of the Associate Director for Science, Office of the Director, Centers for Disease Control and Prevention.

[FR Doc. 2017-21751 Filed 10-6-17; 8:45 am]

BILLING CODE 4163-18-P